DEPARTMENT OF TRANSPORTATION

Research and Special Programs Administration

49 CFR Chapter I

[Docket No. RSPA-00-5143; Notice No. 00-2]

Hazardous Materials Safety: Public Meeting Related to Customer Service and Regulatory Review

AGENCY: Research and Special Programs Administration (RSPA), DOT.

ACTION: Notice of public meeting.

SUMMARY: RSPA will hold a public meeting to seek information from the public on improving safety, reducing costs (especially to small businesses) and increasing customer service through RSPA's management of the national hazardous materials transportation safety program. This meeting is being held in conjunction with a Hazardous Materials Multimodal Training Seminar sponsored by RSPA on March 28 and 29, 2000.

DATES: The public meeting will be held on Wednesday, March 29, 2000, 1 p.m. to 5 p.m.; however, the meeting may end prior to 5 p.m., dependent upon public interest.

ADDRESSES: The public meeting will be held at the Radisson Suite Hotel Meadowland, 350 Route 3 West, Secaucus, NJ (201-863-8700). For information on facilities or services for individuals with disabilities or to request special assistance at the meetings, contact Michael Stevens at the address or phone number listed under FOR FURTHER INFORMATION CONTACT as soon as possible.

FOR FURTHER INFORMATION CONTACT: Michael Stevens, Office of Hazardous Materials Standards, RSPA, Department of Transportation, 400 Seventh Street, SW, Washington, DC 20590-0001. Phone (202) 366-8553.

SUPPLEMENTARY INFORMATION:

Focus on Issues of Interest to Affected Parties

RSPA (“we” and “our”) is interested in soliciting comments on the kind and quality of services our customers want and their level of satisfaction with the services we currently provide to promote understanding and compliance with the Hazardous Materials Regulations (HMR; 49 CFR parts 171-180). These services include the following:

(1) Hazardous Materials Information Center (HMIC). A staff of three persons is available Monday to Friday (except Federal holidays) between 9 am and 5 pm (Eastern time) to address telephonic inquiries from shippers, carriers, packaging manufacturers and other persons concerning requirements in the HMR for the safe transportation of hazardous materials. In 1999, the HMIC handled more than 28,000 calls. The toll-free number is 1-800-HMR-4922.

(2) Internet Access. Our site on the worldwide web (http://hazmat.dot.gov) provides information concerning hazardous materials rulemakings, exemptions, letters of clarification, international activities, incident data, the 2000 Emergency Response Guidebook and much more.

(3) Fax on Demand. For persons who do not have access to the internet, we operate an automated fax-back system that allows callers access to more than 600 pages of informational materials, including letters of clarification and recently published rulemakings, through their own fax machines. A facsimile copy of the catalog of available documents may be obtained by accessing the fax-on-demand feature through our HMIC number 1-800-HMR-4922.

(4) Training. To promote compliance with the HMR, we distribute brochures, charts, publications, training materials, videotapes, and other safety-related information to hazmat employers and hazmat employees in the private and government sectors, as well as to the general public. Hazardous materials training is provided to Federal, State and local enforcement agencies, industry, and emergency response personnel. In addition, we provide personal computer based self-study programs through a CD-ROM modular training series.

(5) Government-Industry Partnerships. To the extent permitted through our limited resources, we participate in meetings, conferences, training workshops, and the like sponsored by public sector, industry, and international organizations having an interest in the safe transportation of hazardous materials.

Regulations and Administrative Procedures

On December 20, 1999, we published a notice of regulatory review (Docket No. RSPA-99-5143, 64 FR 71098) requesting comments on the economic impact of the regulations on small entities. This year we are analyzing rules in 49 CFR part 106, Rulemaking Procedures, Part 107, Hazardous Materials Program Procedures, and Part 171, General Information, Regulations, and Definitions. Meeting participants are invited to take this opportunity to suggest whether specific rules in these parts should be revised or revoked to lessen the impact on small entities.

We are interested, also, in receiving comments on the quality of our processing of written requests for information, applications for exemption and approval, registration statements, and other administrative actions. Meeting participants are encouraged to provide suggestions on how we may improve our performance in processing these administrative actions.

We welcome all comments on ways to improve understanding and compliance with the HMR, including removal of obsolete requirements, revisions to conflicting or confusing requirements, and the use of plain language in regulations. We will address inquiries concerning new or proposed requirements recently published in rulemaking actions concerning RSPA's registration and fee assessment program (Docket No. RSPA-99-5137; 65 FR 7297, February 14, 2000); harmonization of requirements in the HMR pertaining to the transportation of radioactive materials with standards published by the International Atomic Energy Agency (Docket No. RSPA-99-6283; 64 FR 72633, December 28, 1999); and the permitted use, until October 1, 2001, of internationally recognized POISON and POISON GAS labels on packages intended for transportation in international commerce (Docket No. RSPA-99-6195, 64 FR 50260, September 16, 1999 and 64 FR 51719, September 24, 1999).

Representatives from the United States Coast Guard, Federal Aviation Administration, Federal Railroad Administration and Federal Motor Carrier Safety Administration will participate with RSPA in this public meeting and address modal-specific issues.

Conduct of the Meeting

This is an informal meeting intended to produce a dialogue between agency personnel and persons affected by the hazardous materials transportation safety program. The presiding official may find it necessary to limit the time available to each person to ensure that all participants have an opportunity to speak. Conversely, this meeting may conclude early if all persons wishing to participate have been heard. While there will be no transcript of the meeting, RSPA will prepare a written summary of the meeting and post it in this notice's docket (RSPA-99-5143). Persons interested in participating in this public meeting need not be registered for the Hazardous Materials Multimodal Training Seminar.

Issued in Washington, D.C. on February 25, 2000.
Robert A. McGuire,
Acting Associate Administrator for Hazardous Materials Safety.

[FR Doc. 00-4995 Filed 3-2-00; 8:45 am]

BILLING CODE 4910-60-P